DEPARTMENT OF THE INTERIOR

National Park Service

60 Day Notice of Intention To Request Clearance of Collection of Information; Opportunity for Public Comment

AGENCY: Department of the Interior, National Park Service, Urban and Adjacent Parks.

ACTION: Notice and request for comments.

SUMMARY: The National Park Service (NPS) is proposing in 2000 and 2001 to conduct surveys of persons living in the metropolitan areas of Boston, MA, Los Angeles, CA, Miami, FL, and New Orleans, LA where the following urban national parks are located: Boston African-American National Historic Site, Santa Monica Mountains National Recreation Area, Biscayne National Park, and Jean Lafitte National Historical Park and Preserve. In these surveys, persons will be asked about their knowledge of the urban national park located in their metropolitan area, and their familiarity with community outreach efforts that the urban national park has instituted.

Urban National Park Community Outreach Survey
Estimated numbers of: Responses | Estimated numbers of: Burden hours
400 | 200

Under provisions of the Paperwork Reduction Act of 1995 and 5 CFR part 1320, Reporting and Recordkeeping Requirements, the National Park Service is soliciting comments on the need for gathering the information in the proposed surveys. The NPS also is asking for comments on the practical utility of the information being gathered; the accuracy of the burden hour estimate; ways to enhance the quality, utility, and clarity of the information to be collected; and ways to minimize the burden to respondents, including use of automated information collection techniques or other forms of information technology.

The NPS goal in conducting these surveys is to assess the effectiveness of community outreach programs of urban national parks to residents within selected metropolitan areas

DATES: Public comments will be accepted on or before August 28, 2000.

SEND COMMENTS TO: Ronald J. Vogel, Nelson Mandela School of Public Policy, Higgins Hall, Southern University, Baton Rouge, LA 70813-0400.

FOR FURTHER INFORMATION CONTACT: Ronald J. Vogel. Voice: 225-771-3103, e-mail: ron@idsmail.com.

SUPPLEMENTARY INFORMATION:

Titles: NPS Urban and Adjacent Parks: Assessment and Development of Community Outreach

Bureau Form Number: None.

OMB Number: To be requested.

Expiration date: To be requested.

Type of request: Request for new clearance.

Description of need: The National Park Service needs information to assess the effectives of community outreach programs in reaching residents who live near urban national parks.

Automated data collection: At the present time, there is no automated way to gather this information because it includes asking residents for determinations on effectiveness and awareness of select programs developed by individual parks.

Description of respondents: Persons residing in the metropolitan areas of Boston, MA, Los Angeles, CA, Miami, FL and New Orleans LA.

Estimated average number of respondents: 400 (100 per above metropolitan area).

Estimated average number of responses: Each respondent will respond only one time, so the number of responses will be the same as the number of respondents.

Estimated average burden hours per response: 30 minutes.

Frequency of response: 1 time per respondent.

Estimated annual reporting burden: 200 hours.

Dated: June 23, 2000.
Betsy Chittenden,
Information Collection Clearance Officer, WASO Administrative Program Center, National Park Service.

[FR Doc. 00-16521 Filed 6-28-00; 8:45 am]

BILLING CODE 4310-70-M